NATIONAL AERONAUTICS AND SPACE ADMINISTRATION

Notice (01-040)

NASA Advisory Council (NAC), Aero-Space Technology Advisory Committee (ASTAC); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee.

DATES: Thursday, April 19, 2001, 8:00 a.m. to 4:30 p.m.; and Friday, April 20, 2001, 8:00 a.m. to 12:00 Noon.

ADDRESSES: National Aeronautics and Space Administration, George C. Marshall Space Flight Center, Headquarters Building 4200, Room P-110, Marshall Space Flight Center, AL 35812.

FOR FURTHER INFORMATION CONTACT: Ms. Mary-Ellen McGrath, Office of Aerospace Technology, National Aeronautics and Space Administration, Washington, DC 20546 (202/358-4729).

SUPPLEMENTARY INFORMATION: The meeting will be open to the public up to the seating capacity of the room. The agenda for the meeting is as follows:

—ASTAC Restructuring Strategy

—Space Launch Initiative (SLI) Program

—Aviation Safety Research

—Government Performance Results Act (GPRA) 2001 Status

—Reports from Goals and Propulsion Subcommittees

—George C. Marshall Space Flight Center Tour

—Report on National Science and Technology Councils Vision 2050

It is imperative that the meeting be held on these dates to accommodate the scheduling priorities of the key participants.

Beth M. McCormick,
Advisory Committee Management Officer, National Aeronautics and Space Administration.

[FR Doc. 01-7346 Filed 3-23-01; 8:45 am]

BILLING CODE 7510-01-P